DEPARTMENT OF AGRICULTURE

Forest Service

Notice of Resource Advisory Committee Meeting

AGENCY: Lassen Resource Advisory Committee, Susanville, California, USDA Forest Service.

ACTION: Notice of meeting.

SUMMARY: Pursuant to the authorities in the Federal Advisory Committees Act (Public Law 92-463) and under the Secure Rural Schools and Community Self-Determination Act of 2000 (Public Law 106-393) the Lassen National Forest's Lassen County Resource Advisory Committee will meet Thursday, January 8, 2004, in Susanville, California for business meetings. The meetings are open to the public.

SUPPLEMENTARY INFORMATION: The meeting begins at 9 a.m., at the Forest Supervisor's Office, 2550 Riverside Drive, Susanville, CA 96130. The meeting objectives are for RAC members and the public to hear project presentations from proponents. Agenda topics will include: Presentations of four proposed projects, continuation of selection of projects, develop February meeting agenda, and meeting calendar for 2004. Time will also be set aside for public comments at the end of the meeting.

FOR FURTHER INFORMATION CONTACT: contact Robert Andrews, Eagle Lake District Ranger and Designated Federal Officer, at (530) 257-4188; or RAC Coordinator, Heidi Perry, at (530) 252-6604.

Jack T. Walton,
Acting Forest Supervisor.

[FR Doc. 04-3490 Filed 2-18-04; 8:45 am]

BILLING CODE 3910-11-M